NUCLEAR REGULATORY COMMISSION

[Docket Nos. 50-445 and 50-446; NRC-2022-0183]

Vistra Operations Company, LLC.; Luminant; Comanche Peak Nuclear Power Plant, Unit Nos. 1 and 2; Final Supplemental Environmental Impact Statement

AGENCY: Nuclear Regulatory Commission.

ACTION: Notice; issuance.

SUMMARY: The U.S. Nuclear Regulatory Commission (NRC) has published a final plant-specific supplement, Supplement 60, License Renewal, to the Generic Environmental Impact Statement (GEIS) for License Renewal of Nuclear Plants, NUREG-1437, regarding the renewal of Facility Operating License Nos. NPF-87 and NPF-89 for an additional 20 years of operation for Comanche Peak Nuclear Power Plant, Unit Nos. 1 and 2, respectively (CPNPP). CPNPP is located in Somervell County, Texas.

DATES: The final Supplement 60, License Renewal to the GEIS is available on May 2, 2024.

ADDRESSES: Please refer to Docket ID NRC-2022-0183 when contacting the NRC about the availability of information regarding this document. You may obtain publicly-available information related to this document using any of the following methods:

• Federal Rulemaking Website: Go to https://www.regulations.gov and search for Docket ID NRC-2022-0183. Address questions about Docket IDs in Regulations.gov to Stacy Schumann; telephone: 301-415-0624; email: Stacy.Schumann@nrc.gov. For technical questions contact the individual listed in the FOR FURTHER INFORMATION CONTACT section of this document.

• NRC's Agencywide Documents Access and Management System (ADAMS): You may access publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The final Supplement 60, License Renewal is available in ADAMS under Accession No. ML24078A261.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

• Public Library: A copy of Supplement 60, License Renewal, to the GEIS for License Renewal of Nuclear Plants, NUREG-1437, will be available at the following locations: Somervell County Library, 108 Allen Dr., Glen Rose, TX 76043 and Hood County Library, 222 N Travis St., Granbury, TX 76048.

The NRC staff encourages those addressees with mailing addresses listed in Chapter 7 of the final Supplemental Environmental Impact Statement, to visit the NRC's NUREG-Series Publication website (https://www.nrc.gov/reading-rm/doc-collections/nuregs/staff.html) or the CPNPP project website (https://www.nrc.gov/reactors/operating/licensing/renewal/applications/comanche-peak.html) to download an electronic copy. You may also obtain an electronic copy by contacting Tam Tran via email at Tam.Tran@nrc.gov.

FOR FURTHER INFORMATION CONTACT: Tam Tran, Office of Nuclear Material Safety and Safeguards, U.S. Nuclear Regulatory Commission, Washington, DC 20555-0001; telephone: 301-415-3617, email: Tam.Tran@nrc.gov.

SUPPLEMENTARY INFORMATION:

I. Background

In accordance with section 51.118 of title 10 of the Code of Federal Regulations (10 CFR), “Final environmental impact statement—notice of availability,” the NRC is making available final Supplement 60, License Renewal to NUREG-1437, regarding the renewal of Vistra Operations Company LLC; Luminant (Vistra), operating licenses NPF-87 and NPF-89 for an additional 20 years of operation for CPNPP. A Notice of Availability of draft Supplement 60, License Renewal to NUREG-1437 was published in the Federal Register on November 9, 2023 (88 FR 77308), by the Environmental Protection Agency. The public comment period on draft Supplement 60, License Renewal to NUREG-1437 ended on December 26, 2023, and the comments received are addressed in final Supplement 60, License Renewal to NUREG-1437.

II. Discussion

As discussed in Chapter 4 of final Supplement 60, License Renewal to NUREG-1437, the NRC staff determined that the adverse environmental impacts of subsequent license renewal for CPNPP are not so great that preserving the option of subsequent license renewal for energy-planning decisionmakers would not be unreasonable. This recommendation is based on: (1) the analysis and findings in the GEIS; (2) information provided in the environmental report and other documents submitted by Vistra; (3) consultation with Federal, State, Tribal, and local agencies; (4) the NRC staff's independent environmental review; and (5) consideration of public comments received during the scoping process and on the draft SEIS.

Dated: April 26, 2024.
For the Nuclear Regulatory Commission.
John M. Moses,
Deputy Director, Division of Rulemaking, Environmental, and Financial Support, Office of Nuclear Material Safety, and Safeguards.

[FR Doc. 2024-09486 Filed 5-1-24; 8:45 am]

BILLING CODE 7590-01-P